NATIONAL COUNCIL ON DISABILITY

Sunshine Act Meetings; Correction

SUMMARY: The National Council on Disability published a notice in the Federal Register of February 28, 2011, concerning a meeting of the Council. This document contains a correction to the times of the meeting.

CONTACT PERSON FOR MORE INFORMATION: Anne Sommers, NCD, 1331 F Street, NW., Suite 850, Washington, DC 20004; 202-272-2004 (V), 202-272-2074 (TTY).

In the Federal Register of February 28, 2011, in FR Doc. 11-4463, on page 10916, in the second column, correct the “Times and Dates” caption to read:

TIME AND DATES: The board meeting will be held on Thursday, March 10, 2011, 10:30 a.m.-5 p.m., ET, and Friday, March 11, 2011, 9 a.m.-10:30 a.m. ET, and from 2-3:30 p.m. ET, if necessary.

In the same Federal Register of February 28, 2011, in FR Doc. 11-4463, on page 10916, in the second column, please correct the “Matters to be Considered” caption to read:

MATTERS TO BE CONSIDERED: The tentative agenda for the board meeting includes annual ethics training, a demonstration of the agency's website redesign, a possible speaker from the U.S. Department of Health and Human Services, the “Living” regional forum, a review of the agency's budget and strategic plan implementation, and other items, to be determined. A portion of the meeting from 2 p.m.-3:30 p.m. ET on Friday, March 11, 2011 may be closed to discuss internal personnel rules and practices, pursuant to paragraph (c)(2) of the Sunshine Act, and in accordance with a determination made by the NCD Chairman.

Dated: March 3, 2011.
Aaron Bishop,
Executive Director.

[FR Doc. 2011-5162 Filed 3-3-11; 11:15 am]

BILLING CODE 6820-MA-P